DEPARTMENT OF COMMERCE

International Trade Administration

[C-570-944]

Oil Country Tubular Goods From People's Republic of China: Rescission of Countervailing Duty Administrative Review; 2017

AGENCY: Enforcement and Compliance, International Trade Administration, Department of Commerce.

SUMMARY: The Department of Commerce (Commerce) is rescinding the administrative review of the countervailing duty order on oil country tubular goods (OCTG) from the People's Republic of China (China). The period of review (POR) is January 1, 2017, through December 31, 2017.

DATES: Applicable October 2, 2018.

FOR FURTHER INFORMATION CONTACT: Jessica Pomper or Nicholas Czajkowski, AD/CVD Operations, Office I, Enforcement and Compliance, International Trade Administration, U.S. Department of Commerce, 1401 Constitution Avenue NW, Washington, DC 20230; telephone: (202) 482-9122 or (202) 482-1395, respectively.

SUPPLEMENTARY INFORMATION:

Background

On January 2, 2018, Commerce published a notice of opportunity to request an administrative review of the countervailing duty order on OCTG from China for the POR.¹ Commerce received a timely-filed request from Maverick Tube Corporation (Maverick), in accordance with 19 CFR 351.213(b), for an administrative review of 18 producers/exporters of OCTG from China: Anhui Tianda Oil Pipe Company Limited; Doright Co., Ltd.; DSC Pipes and Tubes Private Limited; Hainan Standard Stone Co., Ltd.; Hengyang Hongda Special Steel Tube Co. Ltd.; Hengyang Steel Tube Group International Trading Inc.; Hubei Xingegang Steel Co., Ltd.; Jiangsu Chengde Steel Tube Co., Ltd.; Jiangyi City Changlongde; Shanghai Jianeng Luggage Co., Ltd.; Tianjn Pipe International Economic & Trading Corporation; Wuxi Seamless Oil Pipe Co., Ltd.; Wuxi Zhenda Special Steel Tube Manufacturing Co., Ltd.; Yangzhou Chengde Steel Pipe Co., Ltd.; Yangzhou Lontrin Steel Tube Co., Ltd.; Yangzhou Shengde Crafts Co., Ltd.; Zhejiang Gross Seamless Tube Co., Ltd.; and Zhejiang Xinghe Group.² On March 16, 2018, the Department published a notice of initiation.³ This notice of initiation inadvertently omitted Yangzhou Shengde Crafts Co., Ltd. for which an administrative review was requested by Maverick. On September 10, 2018, Commerce published a notice of initiation to correct this omission.⁴ Subsequent to the Initiation Notices, Commerce requested from U.S. Customs and Border Protection (CBP) data for U.S. imports of subject merchandise during the POR for the companies for which an administrative review was requested.⁵ The results of the CBP data inquiry demonstrated that there were no entries of subject merchandise exported by these companies during the POR.⁶ Commerce solicited interested party comments,⁷ and we received no comments.

¹ See Antidumping or Countervailing Duty Order, Finding, or Suspended Investigation; Opportunity to Request Administrative Review, 83 FR 98 (January 2, 2018).

² See letter from Maverick, “Certain Oil Country Tubular Goods from the People's Republic of China: Request for Administrative Review,” date January 31, 2018.

³ See Initiation of Antidumping and Countervailing Duty Administrative Reviews, 83 FR 11686 (March 16, 2018).

⁴ See Initiation of Antidumping and Countervailing Duty Administrative Reviews, 83 FR 45596 (September 11, 2018).

⁵ See Memorandum “Certain Oil Tubular Goods from the People's Republic of China: Placement on the Record of Results of Inquiry to U.S. Customs and Border Protection for 2017 Period of Review,” dated April 19, 2018. See also Memorandum “Certain Oil Tubular Goods from the People's Republic of China: Placement on the Record of Results of Inquiry to U.S. Customs and Border Protection for 2017 Period of Review,” dated September 11, 2018.

⁶ Id.

⁷ Id.

Rescission of Review

It is Commerce's practice to rescind an administrative review of a countervailing duty order, pursuant to 19 CFR 351.213(d)(3), when there are no reviewable entries of subject merchandise during the POR for which liquidation is suspended.⁸ See 19 CFR 351.212(b)(l). Therefore, for an administrative review to be conducted, there must be a reviewable, suspended entry that Commerce can order CBP to liquidate at the newly calculated countervailing duty assessment rate. Accordingly, in the absence of suspended entries of subject merchandise during the POR, we are now rescinding this administrative review of the countervailing duty order on OCTG from China, pursuant to 19 CFR 351.213(d)(3).

⁸ See, e.g., Lightweight Thermal Paper from The People's Republic of China: Notice of Rescission of Countervailing Duty Administrative Review; 2015 82 FR 14349 (March 20, 2017).

This determination and notice are issued and published pursuant to sections 705(d) and 777(i)(1) of the Tariff Act of 1930, as amended, and 19 CFR 351.213(d)(4).

Dated: September 25, 2018.
James Maeder,
Associate Deputy Assistant Secretary for Antidumping and Countervailing Duty Operations performing the duties of Deputy Assistant Secretary for Antidumping and Countervailing Duty Operations.

[FR Doc. 2018-21405 Filed 10-1-18; 8:45 am]

BILLING CODE 3510-DS-P